DEPARTMENT OF AGRICULTURE

Forest Service

Manti-La Sal National Forest, Utah; Maverick Point Forest Health Project

AGENCY: Forest Service, USDA.

ACTION: Withdrawal of notice of intent to prepare environmental impact statement.

SUMMARY: The Manti-La Sal National Forest is withdrawing the Notice of Intent (NOI) to prepare an Environmental Impact Statement for the Maverick Point Forest Health Project. The original NOI was published in the Federal Register on January 15, 2013.

FOR FURTHER INFORMATION CONTACT: Questions concerning withdrawal of the NOI should be addressed to Michael Diem (District Ranger) at the following address: Moab/Monticello Ranger District, Manti-La Sal National Forest, P.O. Box 820, Monticello, Utah 84535, phone: 435-587-2041.

Individuals who use telecommunication devices for the deaf (TDD) may call the Federal Information Relay Service (FIRS) at 1-800-877-8339 between 8 a.m. and 8 p.m., Eastern Time, Monday through Friday.

Dated: February 16, 2018.
Glenn P. Casamassa,
Associate Deputy Chief, National Forest System.

[FR Doc. 2018-03775 Filed 2-23-18; 8:45 am]

BILLING CODE 3411-15-P